DEPARTMENT OF TRANSPORTATION

Federal Aviation Administration

14 CFR Part 39

[Docket No. 2000-CE-56-AD]

RIN 2120-AA64

Airworthiness Directives; Twin Commander Aircraft Corporation Models 690D, 695A, and 695B Airplanes

AGENCY: Federal Aviation Administration, DOT.

ACTION: Notice of proposed rulemaking (NPRM).

SUMMARY: This document proposes to adopt a new airworthiness directive (AD) that would apply to certain Twin Commander Aircraft Corporation (TCAC) Models 690D, 695A, and 695B airplanes. The proposed AD would require you to initially inspect and modify and repetitively inspect areas of the wing and fuselage structure for fatigue damage and modify or replace any damaged parts. The proposed AD is the result of tests that show that the service life of certain airplane parts cannot be reached unless an inspection and modification program (with any necessary replacements or modifications if fatigue damage is found) is incorporated. The actions specified by the proposed AD are intended to detect and correct fatigue damage in the wing and fuselage areas without reducing the service life of the airplane. Such undetected and uncorrected damage could result in structural failure with consequent loss of control of the airplane.

DATES: The Federal Aviation Administration (FAA) must receive any comments on this proposed rule by January 31, 2003.

ADDRESSES: Submit comments to FAA, Central Region, Office of the Regional Counsel, Attention: Rules Docket No. 2000-CE-56-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2000-CE-56-AD” in the subject line. If you send comments electronically as attached electronic files, the files must be formatted in Microsoft Word 97 for Windows or ASCII text.

You may get the service information referenced in the proposed AD from the Twin Commander Aircraft Corporation, 19010 59th Drive NE., Arlington, Washington 98223-7832; telephone: (360) 435-9797; facsimile: (360) 435-1112. You may also view this information at the Rules Docket at the address above.

FOR FURTHER INFORMATION CONTACT: Della Swartz, Aerospace Engineer, FAA, Seattle Aircraft Certification Office, 1601 Lind Avenue, SW, Renton, Washington 98055-4065; telephone: (425) 687-4246; facsimile: (425) 687-4248.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the proposed rule in the Rules Docket. We will file a report in the Rules Docket that summarizes each contact we have with the public that concerns the substantive parts of this proposed AD.

How Can I Be Sure FAA Receives My Comment?

If you want us to acknowledge the receipt of your comments, you must include a self-addressed, stamped postcard. On the postcard, write “Comments to Docket No. 2000-CE-56-AD.” We will date stamp and mail the postcard back to you.

Discussion

What Events Have Caused This Proposed AD?

The FAA has received results of fatigue testing of the wing and fuselage structure on Models 690D, 695A, and 695B airplanes. These results reveal that fatigue damage could occur prior to the published service lives.

TCAC has developed an inspection and modification program to detect and correct fatigue damage in the wing and fuselage areas without reducing the service life of the airplanes.

What Are the Consequences if the Condition Is Not Corrected?

Such fatigue damage, if not detected and corrected, could result in structural failure with consequent loss of control of the airplane.

Relevant Service Information

Is There Service Information That Applies to This Subject?

TCAC has issued the following service information:

—Twin Commander Aircraft Corporation Mandatory Service Bulletin No. 214, dated January 26, 2000, which includes procedures, schedules, and drawings for repetitively inspecting and modifying the wing and fuselage areas of the affected airplanes;

—Twin Commander Aircraft Corporation Service Publications revision notice to Service Bulletin No. 214, Revision 1, Release Date: April 19, 2000, which changes compliance schedules and clarifies information presented in Twin Commander Aircraft Corporation Mandatory Service Bulletin No. 214, dated January 26, 2000; and

—Twin Commander Aircraft Corporation Service Publications revision notice to Service Bulletin No. 214, Revision 2, Release Date: May 21, 2001, which changes compliance schedules and clarifies information presented in Twin Commander Aircraft Corporation Mandatory Service Bulletin No. 214, dated January 26, 2000.

The FAA's Determination and an Explanation of the Provisions of the Proposed AD

What Has FAA Decided?

After examining the circumstances and reviewing all available information related to the incidents described above, we have determined that:

—The unsafe condition referenced in this document exists or could develop on other TCAC Model 690D, 695A, and 695B airplanes of the same type design;

—The inspections and modifications (and necessary replacements or modifications if fatigue damage is found) specified in the service information should be accomplished on the affected airplanes; and

—FAA should take AD action to correct this unsafe condition.

What Would the Proposed AD Require?

The proposed AD would require you to repetitively inspect areas of the wing and fuselage structure for fatigue damage and modify or replace any damaged parts.

Compliance Time

Why Is the Initial Compliance Time Presented in Hours Time-in-service (TIS) and Calendar Time?

Normally, fatigue problems would carry a compliance time based solely upon hours TIS, e.g., upon accumulating a certain amount of hours TIS. However, the number of airplanes that still need to have the initial actions of the proposed AD accomplished compared to the number of authorized repair centers justifies a compliance time of both hours TIS and calendar time, whichever occurs first.

TCAC estimates 125 airplanes worldwide (about 87 percent of the worldwide fleet) that still need to have the initial proposed inspections accomplished. This 87 percent would amount to 94 of the 108 U.S.- registered airplanes with only 7 authorized service centers accredited to do the work. The FAA has worked with TCAC in establishing a compliance table that categorizes the airplanes based upon the amount of hours TIS each airplane has accumulated.

This would ensure that the service centers have adequate time to accomplish the proposed actions.

Cost Impact

How Many Airplanes Does This Proposed AD Impact?

We estimate the proposed AD would affect 108 airplanes in the U.S. registry.

What Would Be the Cost Impact of the Proposed AD on Owners/Operators of the Affected Airplanes?

We estimate the following costs to do the proposed inspection for TCAC Models 690D, 695A, and 695B airplanes:

Inspection only labor cost for each airplane | Total inspection cost on U.S. Operators
Minimum 270 workhours × $60 per hour = $16,200 | Minimum: $1,749,600.
Maximum 416 workhours × $60 each hour = $24,960 | Maximum: $2,695,680.

We estimate the following costs to do any necessary modifications that would be required based on the results of the proposed inspection. We have no way of finding out the number of airplanes that may need modifications:

Costs | Minimum | Maximum
Labor Costs | 81 workhours × $60 per hour = $4,860 | 2,790 workhours × $60 per hour = $167,400.
Estimated Parts Cost | $2,847 | $65,978.
Estimated Total Cost for Each Airplane | $7,707 | $233,378.
Total Cost on U.S. Operators | $832,356 | $25,204,824.

Regulatory Impact

Would This Proposed AD Impact Various Entities?

The proposed regulations would not have substantial direct effect on the States, on the relationship between the national government and the States, or on the distribution of power and responsibilities among the various levels of government. We have determined that this proposed rule would not have federalism implications under Executive Order 13132.

Would This Proposed AD Involve a Significant Rule or Regulatory Action?

For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may get a copy of it by contacting the Rules Docket at the location provided under the caption ADDRESSES.

List of Subjects in 14 CFR Part 39

Air transportation, Aircraft, Aviation safety, Safety.

The Proposed Amendment

Therefore, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Twin Commander Aircraft Corporation:

Docket No. 2000-CE-56-AD.

(a) What airplanes are affected by this AD? The following Twin Commander Aviation Corporation (TCAC) airplane models and serial numbers that are certificated in any category:

Model | Serial numbers
690D | 15001 through 15036 and 15038 through 15040.
695A | 96001 through 96062, 96065 through 96068, 96070, 96071, 96073, 96074, 96076, 96077, and 96079 through 96084, 96086, 96087, and 96089 through 96100.
695B | 96063, 96069, 96075, 96078, 96085, and 96204 through 96208.

(b) Who must comply with this AD? Anyone who wishes to operate any of the airplanes identified in paragraph (a) of this AD must comply with this AD.

(c) What problem does this AD address? The actions specified by this AD are intended to detect and correct fatigue damage in the wing and fuselage areas without reducing the service life of the airplane. Such undetected and uncorrected damage could result in structural failure with consequent loss of control of the airplane.

(d) What must I do to address this problem? To address this problem, you must initially inspect and modify the wing and fuselage areas (Part 1 Inspection/Modifications as identified in Twin Commander Aircraft Corporation Mandatory Service Bulletin No. 214, dated January 26, 2000) and repetitively inspect with necessary modification or replacement of damaged parts (Part 2 Recurrent Inspections as identified in Twin Commander Aircraft Corporation Mandatory Service Bulletin No. 214, dated January 26, 2000) in accordance with the following schedules:

(1) Part 1 Initial Inspections/Modifications: Initially (unless already done) accomplish the Part 1 Inspections/Modifications at whichever compliance time in paragraph (d)(1)(i) or (d)(1)(ii) of this AD that occurs later:

(i) the compliance times presented in Part 1 Table 1 of of Twin Commander Aircraft Corporation Mandatory Service Bulletin No. 214, dated January 26, 2000; Twin Commander Aircraft Corporation Service Publications revision notice to Service Bulletin No. 214, Revision 1, Release Date: April 19, 2000; and Twin Commander Aircraft Corporation Service Publications revision notice to Service Bulletin No. 214, Revision 2, Release Date: May 21, 2001; or

(ii) the Table A compliance times presented on page 1 of the service information and replicated below:

Current airframe hours time-in-service (TIS) | Initial compliance time
(A) 0000 through 1,700 | Upon accumulating 2,700 hours TIS or within the next 36 months after the effective date of this AD, whichever occurs first.
(B) 1,701 through 2,500 | Upon accumulating 3,400 hours TIS or within the next 36 months after the effective date of this AD, whichever occurs first.
(C) 2,501 through 3,000 | Upon accumulating 3,800 hours TIS or within the next 36 months after the effective date of this AD, whichever occurs first.
(D) 3,001 through 5,000 | Upon accumulating 5,500 hours TIS or within the next 30 months after the effective date of this AD, whichever occurs first.
(E) 5,001 through 6,000 | Upon accumulating 6,400 hours TIS or within the next 24 months after the effective date of this AD, whichever occurs first.
(F) 6,001 through 7,500 | Upon accumulating 7,800 hours TIS or within the next 18 months after the effective date of this AD, whichever occurs first.
(G) Over 7,500 | Within the next 12 months after the effective date of this AD.

(2) Part 2 Recurring Inspections: Repetitively inspect as referenced in Part 2 Recurring Inspections on page 62 of Twin Commander Aircraft Corporation Mandatory Service Bulletin No. 214, dated January 26, 2000; Twin Commander Aircraft Corporation Service Publications revision notice to Service Bulletin No. 214, Revision 1, Release Date: April 19, 2000; and Twin Commander Aircraft Corporation Service Publications revision notice to Service Bulletin No. 214, Revision 2, Release Date: May 21, 2001.

(3) Mandatory Replacements and Modifications: If any damage is found during any inspection required by paragraphs (d), (d)(1), and (d)(2) of this AD, prior to further flight, replace or modify the part as specified in the following:

(i) Twin Commander Aircraft Corporation Mandatory Service Bulletin No. 214, dated January 26, 2000;

(ii) Twin Commander Aircraft Corporation Service Publications revision notice to Service Bulletin No. 214, Revision 1, Release Date: April 19, 2000; and

(iii) Twin Commander Aircraft Corporation Service Publications revision notice to Service Bulletin No. 214, Revision 2, Release Date: May 21, 2001.

(e) Can I comply with this AD in any other way? You may use an alternative method of compliance or adjust the compliance time if:

(1) Your alternative method of compliance provides an equivalent level of safety; and

(2) The Manager, Seattle Aircraft Certification Office (ACO), approves your alternative. Send your request through an FAA Principal Maintenance Inspector, who may add comments and then send it to the Manager, Seattle ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance following paragraph (e) of this AD. You should include in the request an assessment of the effect of the modification, alteration, or repair on the unsafe condition addressed by this AD; and, if you have not eliminated the unsafe condition, specific actions you propose to address it.

(f) Where can I get information about any already-approved alternative methods of compliance? Contact Della Swartz, Aerospace Engineer, FAA, Seattle Aircraft Certification Office, 1601 Lind Avenue, SW, Renton, Washington 98055-4065; telephone: (425) 687-4246; facsimile: (425) 687-4248.

(g) What if I need to fly the airplane to another location to comply with this AD? The FAA can issue a special flight permit under sections 21.197 and 21.199 of the Federal Aviation Regulations (14 CFR 21.197 and 21.199) to operate your airplane to a location where you can perform the requirements of this AD.

(h) How do I get copies of the documents referenced in this AD? You may get the service information referenced in this AD from the Twin Commander Aircraft Corporation, 19010 59th Drive N.E., Arlington, Washington 98223-7832; telephone: (360) 435-9797; facsimile: (360) 435-1112. You may view these documents at FAA, Central Region, Office of the Regional Counsel, 901 Locust, Room 506, Kansas City, Missouri 64106.

Issued in Kansas City, Missouri, on November 22, 2002.
Dorenda D. Baker,
Acting Manager, Small Airplane Directorate, Aircraft Certification Service.

[FR Doc. 02-30496 Filed 12-2-02; 8:45 am]

BILLING CODE 4910-13-P